DEPARTMENT OF ENERGY

Environmental Management Site-Specific Advisory Board, Savannah River Site

AGENCY: Department of Energy.

ACTION: Notice of Open Meeting.

SUMMARY: This notice announces a meeting of the Environmental Management Site-Specific Advisory Board (EM SSAB), Savannah River Site. The Federal Advisory Committee Act (Pub. L. No. 92-463, 86 Stat. 770) requires that public notice of this meeting be announced in the Federal Register.

DATES: Monday, September 25, 2006 1 p.m.-6:30 p.m., Tuesday, September 26, 2006, 8:30 a.m.-4 p.m.

ADDRESSES: Double Tree Hotel, 181 Church Street, Charleston, SC 29401.

FOR FURTHER INFORMATION CONTACT: Gerri Flemming, Closure Project Office, Department of Energy Savannah River Operations Office, P.O. Box A, Aiken, SC, 29802; Phone: (803) 952-7886.

SUPPLEMENTARY INFORMATION: Purpose of the Board: The purpose of the Board is to make recommendations to DOE in the areas of environmental restoration, waste management, and related activities.

Tentative Agenda

Monday, September 25, 2006

1 p.m. Combined Committee Session.

5:15 p.m. Adjourn.

5:30 p.m. Executive Committee Meeting.

6:30 p.m. Adjourn.

Tuesday, September 26, 2006

8:30 a.m. Approval of Minutes, Agency Updates.

9:15 a.m. Public Comment Session.

9:30 a.m. Chair and Facilitator Update.

10 a.m. Administrative Committee Report—Bylaws Amendment Proposal.

10:45 a.m. Strategic Legacy Management Committee Report.

11:45 a.m. Public Comment Session.

12 p.m. Lunch Break.

1 p.m. Facility Disposition and Site Remediation Committee Report.

2:10 p.m. Nuclear Materials Committee Report.

3:15 p.m. Public Comment Session.

3:30 p.m. Waste Management Committee Report.

4 p.m. Adjourn.

If needed, time will be allotted after public comments for items added to the agenda and administrative details. A final agenda will be available at the meeting Monday, September 25, 2006.

Public Participation: The meeting is open to the public. Written statements may be filed with the Board either before or after the meeting. Individuals who wish to make oral statements pertaining to agenda items should contact Gerri Flemming's office at the address or telephone listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: The minutes of this meeting will be available for public review and copying at the U.S. Department of Energy's Freedom of Information Public Reading Room, 1E-190, Forrestal Building, 1000 Independence Avenue, SW., Washington, DC 20585 between 9 a.m. and 4 p.m., Monday through Friday, except Federal holidays. Minutes will also be available by writing to Gerri Flemming, Department of Energy Savannah River Operations Office, P.O. Box A, Aiken, SC 29802, or by calling her at (803) 952-7886.

Issued at Washington, DC, on August 24, 2006.
Rachel M. Samuel,
Deputy Advisory Committee Management Officer.

[FR Doc. E6-14434 Filed 8-29-06; 8:45 am]

BILLING CODE 6450-01-P